DEPARTMENT OF HEALTH AND HUMAN SERVICES

Centers for Medicare & Medicaid Services

42 CFR Parts 431, 433, 435, 441, and 483

[CMS-2418-N]

RIN 0938-AT95

Medicaid Program; Preadmission Screening and Resident Review; Extension of Comment Period

AGENCY: Centers for Medicare & Medicaid Services (CMS), HHS.

ACTION: Proposed rule; Extension of comment period.

SUMMARY: This document extends the comment period for the proposed rule entitled “Medicaid Program; Preadmission Screening and Resident Review” that appeared in the February 20, 2020 Federal Register. The comment period for the proposed rule, which would end on April 20, 2020, is extended 30 days to May 20, 2020.

DATES: The comment period for the proposed rule (85 FR 9990) is extended to 5 p.m., eastern daylight time, on May 20, 2020.

ADDRESSES: You may submit comments as outlined in the February 20, 2020 proposed rule (85 FR 9990). Please choose only one method listed.

FOR FURTHER INFORMATION CONTACT: Anne Blackfield, (410) 786-8518.

SUPPLEMENTARY INFORMATION: In the “Medicaid Program; Preadmission Screening and Resident Review” proposed rule that appeared in the February 20, 2020 Federal Register (85 FR 9990), we solicited public comments on proposed policies that aim to modernize the requirements for Preadmission Screening and Resident Review (PASRR), currently referred to in regulation as Preadmission Screening and Annual Resident Review, by including statutory changes, reflecting updates to diagnostic criteria for mental illness and intellectual disability, reducing duplicative requirements and other administrative burdens on State PASRR programs, and making the process more streamlined and person-centered.

Since the issuance of the proposed rule, the United States and its citizens have endured a dramatic upheaval to our way of life as a result of the COVID-19 global pandemic. The federal and state governments, as well as private businesses, have made drastic but necessary decisions to restrict access to buildings, businesses, and transportation to slow the spread of the disease. As a result, many workplaces are dealing with changed priorities, new work procedures, and a limited workforce. We acknowledge the difficulties the current situation presents, including the limited ability of states and stakeholders to analyze and respond to our proposed rule. To maximize the opportunity for the public to provide meaningful input to CMS, we believe that it is important to allow additional time for the public to prepare comments on the proposed rule. In addition, we believe that granting an extension to the public comment period in this instance would further our overall objective to obtain public input on the proposed provisions to modernize PASRR requirements. Therefore, we are extending the comment period for the proposed rule for an additional 30 days.

The Administrator of the Centers for Medicare & Medicaid Services (CMS), Seema Verma, having reviewed and approved this document, authorizes Evell J. Barco Holland, who is the Federal Register Liaison, to electronically sign this document for purposes of publication in the Federal Register.

Evell J. Barco Holland,
Federal Register Liaison, Department of Health and Human Services.

[FR Doc. 2020-08329 Filed 4-17-20; 8:45 am]

BILLING CODE 4120-01-P